DEPARTMENT OF THE INTERIOR

National Park Service

General Management Plan and Environmental Impact Statement, Big Thicket National Preserve, Texas

AGENCY: National Park Service, Department of the Interior.

ACTION: Notice of intent to prepare an environmental impact statement for the general management plan (GMP), Big Thicket National Preserve.

SUMMARY: Pursuant to the National Environmental Policy Act of 1969, 42 U.S.C. 4332(2)(C), the National Park Service (NPS) is preparing an environmental impact statement for a general management plan for Big Thicket National Preserve, Texas. The environmental impact statement will be approved by the Director, Intermountain Region.

The general management plan will prescribe the resource conditions and visitor experiences that are to be achieved and maintained in the Preserve over the next 15 to 20 years. The clarification of what must be achieved according to law and policy will be based on review of the Preserve's purpose, significance, special mandates, and the body of laws and policies directing park management. Based on determinations of desired conditions, the general management plan will outline the kinds of resource management activities, visitor activities, and development that would be appropriate in the future. A range of reasonable management alternatives will be developed through this planning process and will include, at a minimum, a no-action and a preferred alternative.

The NPS is required to prepare a GMP for all NPS units. A GNP was completed for Big Thicket National Preserve in 1980. The 1980 GMP does not address lands added to the Preserve since 1993 or current NPS park planning standards or NPS management policies.

Issues to be addressed will include but are not limited to the following: The management of lands added to the Preserve since the original GMP in 1980; visitor use and resource management issues; access to and within the Preserve; and changes in land use patterns and their impact on natural and cultural resources in the Preserve.

A scoping newsletter will be prepared that describes the issues identified to date. Copies of the newsletter may be obtained in June from Todd Brindle, Superintendent, Big Thicket National Preserve, 6044 FM 420, Kountze, Texas 77625, Phone: 409-951-6802, the park Web site http://www.nps.gov/bith, or on the Planning, Environment, and Public Comment (PEPC) website at http://parkplanning.nps.gov/bith.

DATES: Any comments on the scope of issues to be addressed in the plan should be submitted no later than 180 days after publication of this notice. In addition to the newsletter, public meetings regarding the general management plan will be held during the scoping period. Specific dates, times, and locations will be made available in the local media, on the National Park Service Planning, Environment, and Public Comment (PEPC) Web site), or by contacting the Superintendent of Big Thicket National Preserve.

ADDRESSES: Information will be available for public review and comment online at http://parkplanning.nps.gov/bith, in the office of the Superintendent, Todd Brindle, 6044 FM 420, Kountze, Texas 77625, Phone: 409-951-6802.

FOR FURTHER INFORMATION CONTACT: Todd Brindle, Superintendent, 6044 FM 420, Kountze, Texas 77625, Phone: 409-951-6802 or by e-mail at BITH_Superintendent@nps.gov.

SUPPLEMENTARY INFORMATION: Public and agency involvement will be solicited at several key steps in the planning process including initial scoping, alternatives development, and the draft plan. If you wish to comment on any issues associated with the plan, you may submit your comments to the planning team by any one of several methods. You may mail comments to Big Thicket National Preserve, Office of the Superintendent, 6044 FM 420, Kountze, Texas 77625. You may also comment via the Internet at http://parkplanning.nps.gov/bith. Finally, you may hand deliver comments to the preserve headquarters at 6044 FM 420, Kountze, Texas 77625. Before including your address, phone number, e-mail address, or other personal identifying information in your comment, you should be aware that your entire comment—including your personal identifying information—may be made publicly available at any time. While you can ask us in your comment to withhold your personal identifying information from public review, we cannot guarantee that we will be able to do so. In personal identifying information from public review, we cannot guarantee that we will be able to do so. In addition, we will make all submissions from organizations or businesses, and from individuals identifying themselves as representatives or officials of organizations or businesses, available for public inspection in their entirety.

Dated: September 3, 2008.
Michael D. Snyder,
Director, Intermountain Region, National Park Service.

Editorial Note: This document was received in the Office of the Federal Register on January 9, 2009.

[FR Doc. E9-583 Filed 1-14-09; 8:45 am]

BILLING CODE 4312-CB-M